DEPARTMENT OF HOMELAND SECURITY

Coast Guard

33 CFR Parts 100 and 165

[USCG-2005-20151]

Quarterly Listings; Safety Zones, Security Zones, Special Local Regulations and Regulated Navigation Areas

AGENCY: Coast Guard, DHS.

ACTION: Notice of temporary rules issued.

SUMMARY: This document provides required notice of substantive rules issued by the Coast Guard and temporarily effective between October 1, 2004 and December 31, 2004, that were not published in the Federal Register. This quarterly notice lists temporary special local regulations, security zones, safety zones, and regulated navigation areas, all of limited duration for which timely publication in the Federal Register was not possible.

DATES: This document lists temporary Coast Guard rules that because effective and were terminated between October 1, 2004, and December 31, 2004.

ADDRESSES: The Department of Transportation Docket Management Facility maintains the public docket for this notice. Documents indicated in this notice will be available for inspection or copying at the Docket Management Facility, U.S. Department of Transportation, Room PL-401, 400 Seventh Street, SW., Washington, DC 20593-0001 between 9 a.m. and 5 p.m., Monday through Friday, except Federal holidays. You may electronically access the public docket for this notice on the Internet at http://dms.dot.gov.

FOR FURTHER INFORMATION CONTACT: For questions on this notice contact LT Jeff Bray, Office of Regulations and Administrative Law, telephone (202) 267-2830. For questions on viewing, or on submitting material to the docket, contact Renee Z. Wright, Acting Program Manager, Docket Operations, telephone (202) 493-0402.

SUPPLEMENTARY INFORMATION: Coast Guard District Commanders and Captains of the Port (COTP) must be immediately responsive to the safety and security needs within their jurisdiction; therefore, District Commanders and COTPs have been delegated the authority to issue certain regulations. Safety Zones may be established for safety or environmental purposes. A safety zone may be stationary and described by fixed limits or it may be described as a zone round a vessel in motion. Security zones limit access to prevent injury or damage to vessels, ports, or waterfront facilities and may also describe a zone around a vessel in motion. Special local regulations are issued to enhance the safety of participants and spectators at regattas and other marine events. Regulated navigation areas established regulations for vessels navigating within the area. Timely publication of these rules in the Federal Register is often precluded when a rule responds to an emergency, or when an event occurs without sufficient advance notice. The affected public is, however, informed of these rules through local notices to mariners, press releases, and other means. Moreover, actual notification is provided by Coast Guard patrol vessels enforcing the restrictions imposed by the rule. Because Federal Register publication was not possible before the beginning of the effective period, mariners were personally notified of the contents of these special local regulations, security zones, safety zones or regulated navigation areas by Coast Guard officials on-scene prior to any enforcement action. However, the Coast Guard, by law, must publish in the Federal Register notice of substantive rules adopted. To meet this obligation without imposing undue expense on the public, the Coast Guard periodically publishes a list of these temporary special local regulations, security zones, safety zones and regulated navigation areas. Permanent rules are not included in this list because they are published in their entirety in the Federal Register. Temporary rules are also published in their entirety if sufficient time is available to do so before they are placed in effect or terminated. The safety zones, special local regulations, security zones and regulated navigation areas listed in this notice have been exempted from review and under Executive Order 12866, Regulatory Planning and Review, because of their emergency nature, or limited scope and temporary effectiveness.

The following rules were placed in effect temporarily during the period from October 1, 2004, through December 31, 2004, unless otherwise indicated.

Dated: January 24, 2004.
Steve G. Venckus,
Chief, Office of Regulations and Administrative Law.

District Quarterly Report—4th Quarter 2004
District docket | Location | Type | Effective date
01-04-119 | Boston, Massachusetts | Safety Zone | 10/20/2004.
01-04-130 | Portsmouth, NH, Piscataqua River Bridges | Security Zone | 10/27/2004.
01-04-131 | Monohansett Island, MA | Safety Zone | 10/1/2004.
01-04-134 | Providence, RI | Safety Zone | 10/20/2004.
01-04-135 | Boston, Massachusetts | Safety Zone | 10/22/2004.
01-04-136 | Norwalk River, CT | Safety Zone | 10/16/2004.
01-04-150 | Long Island, NY | Regulated Nav. Area | 12/4/2004.
05-04-180 | Morehead City, NC | Special Local Regs | 10/2/2004.
05-04-183 | Middle River, MD | Special Local Regs | 10/2/2004.
05-04-187 | West Point, Yorktown, VA | Safety Zone | 10/1/2004.
05-04-192 | Annapolis, MD | Special Local Regs | 11/6/2004.
05-04-194 | Baltimore Harbor, MD | Safety Zone | 10/8/2004.
05-04-195 | Delaware River, NJ | Special Local Regs | 10/9/2004.
05-04-199 | Delaware River | Security Zone | 10/18/2004.
05-04-205 | Virginia Beach, VA | Safety Zone | 11/2/2004.
05-04-213 | Elizabeth River, Norfolk, Virginia | Safety Zone | 12/10/2004.
05-04-222 | Elizabeth River, Portsmouth, VA | Safety Zone | 12/11/2004.
07-04-119 | Delray Beach, FL | Special Local Regs | 10/15/2004.
07-04-121 | Deerfield Beach, FL | Special Local Regs | 10/10/2004.
07-04-141 | Riveira Beach, FL | Special Local Reg | 12/4/2004.
07-04-142 | RivieraBeach, FL | Special Local Reg | 12/11/2004.
07-04-144 | Charleston, SC | Special Local Reg | 12/4/2004.
09-04-142 | Grosse Pointe Shores, MI | Safety Zone | 10/3/2004.
09-04-143 | Toledo, OH | Security Zone | 10/29/2004.
09-04-144 | Chios Pride, Lake Michigan, Menominee, Michigan | Safety Zone | 11/29/2004.
09-04-146 | Marathon Barge Operations, Rouge River, Detro | Safety Zone | 10/13/2004.
09-04-147 | Staten Island Ferry 3, Menominee River, Marine | Safety Zone | 12/18/2004.
11-04-009 | San Francisco Bay, CA | Special Local Regs | 10/8/2004.
11-04-013 | San Francisco Bay, CA | Special Local Reg | 12/30/2004.
13-04-041 | Budd Inlet, West Bay, Olympia, Washington | Security Zone | 11/17/2004.
13-04-042 | Budd Inlet, West Bay, Olympia, Washington | Security Zone | 12/1/2004.

COTP Quarterly Report—4th Quarter 2004
COTP docket | Location | Type | Effective date
Baltimore 04-002 | Chesapeake Bay, MD | Safety Zone | 11/30/2004.
Corpus Christi 04-004 | Corpus Christi, TX | Safety Zone | 10/22/2004.
Huntington 04-002 | Huntington, WV | Safety Zone | 10/4/2004.
Louisville 04-010 | Curdsville, KY | Safety Zone | 11/16/2004.
Memphis 04-003 | Caruthersville, AR | Safety Zone | 10/9/2004.
Memphis 04-004 | Memphis, TN | Safety Zone | 10/12/2004.
Memphis 04-005 | Benzal, AR | Safety Zone | 10/16/2004.
Memphis 04-006 | Mississippi River, Tunica, MS | Security Zone | 10/12/2004.
Memphis 04-007 | North Little Rock, AR | Safety Zone | 10/29/2004.
Memphis 04-008 | Little Rock, AR | Safety Zone | 11/17/2004.
Memphis 04-009 | Little Rock, AR | Security Zone | 11/18/2004.
Miami 04-105 | Bayside Park, Miami, FL | Safety Zone | 10/29/2004.
Miami 04-116 | Biscayne Bay, Miami, FL | Security Zone | 10/29/2004.
Miami 04-140 | Bay Front Park, Miami, FL | Safety Zone | 11/27/2004.
Miami 04-149 | Bay Front Park, Miami, FL | Safety Zone | 12/31/2004.
Miami 04-150 | Indian Riverside Park, Jensen Beach, FL | Safety Zone | 12/31/2004.
Mobile 04-010 | Orange Beach, AL | Safety Zone | 10/2/2004.
Mobile 04-011 | Pascagoula, MS | Safety Zone | 10/11/2004.
Mobile 04-015 | Panama City, FL | Safety Zone | 10/14/2004.
Mobile 04-016 | Panama City, FL | Security Zone | 10/14/2004.
Mobile 04-017 | Panama City, FL | Security Zone | 10/14/2004.
Mobile 04-019 | Bayou Grande, Pensacola, FL | Security Zone | 10/10/2004.
Mobile 04-020 | Bayou Chico, Pensacola, FL | Security Zone | 10/10/2004.
Mobile 04-023 | Pensacola Bay Bridge, Pensacola, FL | Security Zone | 10/10/2004.
Mobile 04-024 | Fort Walton Beach, FL | Security Zone | 10/10/2004.
Mobile 04-025 | Fort Walton Beach, FL | Security Zone | 10/10/2004.
Mobile 04-026 | Niceville, FL | Security Zone | 10/10/2004.
Mobile 04-027 | Choctawhatchee Bay, Destin, FL | Security Zone | 10/10/2004.
Mobile 04-033 | Pensacola to St. Marks, FL | Safety Zone | 10/5/2004.
Mobile 04-050 | Pascagoula, MS | Safety Zone | 10/4/2004.
Mobile 04-051 | East of Harvey Locks | Safety Zone | 10/5/2004.
Mobile 04-054 | Pascagoula, MS | Safety Zone | 10/8/2004.
Mobile 04-058 | Pascagoula, MS | Safety Zone | 12/2/2004.
Mobile 04-061 | Pensacola, FL | Safety Zone | 12/3/2004.
New Orleans 04-031 | New Orleans, LA | Safety Zone | 10/22/2004.
New Orleans 04-032 | New Orleans, LA | Safety Zone | 10/29/2004.
New Orleans 04-033 | New Orleans, LA | Safety Zone | 10/6/2004.
New Orleans 04-034 | New Orleans, LA | Safety Zone | 10/10/2004.
New Orleans 04-035 | Lafitte, LA | Safety Zone | 10/11/2004.
New Orleans 04-036 | Natchez, MS | Safety Zone | 10/15/2004.
New Orleans 04-037 | Vicksburg, MS | Safety Zone | 10/16/2004.
New Orleans 04-038 | New Orleans, LA | Safety Zone | 10/21/2004.
New Orleans 04-040 | Algiers Point, LA | Safety Zone | 11/19/2004.
New Orleans 04-041 | Monroe, LA | Safety Zone | 12/4/2004.
Paducah 04-010 | Nashville, TN | Safety Zone | 10/16/2004.
Paducah 04-012 | Knoxville, TN | Safety Zone | 11/26/2004.
Paducah 04-013 | Willard, IL | Safety Zone | 11/27/2004.
Paducah 04-014 | Chattanooga, TN | Safety Zone | 12/3/2004.
Paducah 04-015 | Chattanooga, TN | Safety Zone | 12/3/2004.
Paducah 04-016 | Paris Landing, TN | Safety Zone | 12/5/2004.
Paducah 04-017 | Chattanooga, TN | Safety Zone | 12/7/2004.
Pittsburgh 04-007 | Pittsburgh, PA | Safety Zone | 10/29/2004.
Pittsburgh 04-008 | Pittsburgh, PA | Safety Zone | 10/18/2004.
Pittsburgh 04-009 | Chester, WV | Safety Zone | 10/3/2004.
Pittsburgh 04-010 | Pittsburgh, PA | Security Zone | 10/3/2004.
Pittsburgh 04-011 | Pittsburgh, PA | Safety Zone | 10/2/2004.
Pittsburgh 04-012 | Pittsburgh, PA | Safety Zone | 10/11/2004.
Pittsburgh 04-013 | Pittsburgh, PA | Safety Zone | 10/20/2004.
Pittsburgh 04-014 | Pittsburgh, PA | Security Zone | 10/12/2004.
Pittsburgh 04-016 | Rochester, PA | Safety Zone | 10/21/2004.
Pittsburgh 04-017 | Wheeling, WV | Safety Zone | 10/18/2004.
Pittsburgh 04-018 | Wheeling, WV | Safety Zone | 10/24/2004.
Pittsburgh 04-019 | Pittsburgh, PA | Safety Zone | 10/23/2004.
Pittsburgh 04-024 | Pittsburgh, PA | Safety Zone | 10/29/2004.
Pittsburgh 04-025 | Wheeling, WV | Safety Zone | 10/29/2004.
Pittsburgh 04-026 | Pittsburgh, PA | Safety Zone | 10/18/2004.
Pittsburgh 04-027 | Pittsburgh, PA | Safety Zone | 10/11/2004.
Pittsburgh 04-029 | Pittsburgh, PA | Safety Zone | 10/17/2004.
Pittsburgh 04-030 | Pittsburgh, PA | Safety Zone | 10/1/2004.
Port Arthur 04-016 | Orange, TX | Safety Zone | 10/27/2004.
Port Arthur 04-017 | Orange, TX | Safety Zone | 11/5/2004.
San Diego 04-033 | The Bridgewater Channel | Safety Zone | 10/29/2004.
San Juan 04-138 | Saint Croix | Security Zone | 11/14/2004.
Savannah 04-152 | Bull Island, SC, and Surrounding Waterways | Security Zone | 12/21/2004.
St. Louis 04-032 | Pepin, WI | Safety Zone | 10/28/2004.
St. Louis 04-033 | Hudson, WI | Security Zone | 10/10/2004.
St. Louis 04-041 | Mississippi River, MO | Safety Zone | 10/4/2004.
St. Louis 04-042 | St. Louis, MO | Safety Zone | 10/14/2004.
St. Louis 04-043 | Minneapolis, MN | Safety Zone | 10/22/2004.
St. Louis 04-044 | Dubuque, IA | Security Zone | 10/26/2004.
St. Louis 04-045 | La Crosse, WI | Security Zone | 10/25/2004.
St. Louis 04-046 | Minneapolis, MN | Safety Zone | 11/30/2004.
Tampa 04-107 | Tampa Bay, FL | Safety Zone | 10/1/2004.
Tampa 04-113 | Albert Whitted Air Show; Tampa Bay, FL | Safety Zone | 10/9/2004.
Tampa 04-117 | Tampa Bay, FL | Safety Zone | 10/12/2004.
Tampa 04-127 | Tampa Bay, FL | Security Zone | 10/19/2004.
Tampa 04-128 | St. Petersburg, FL | Security Zone | 10/22/2004.
Tampa 04-130 | Tampa Bay, FL | Security Zone | 10/22/2004.
Tampa 04-135 | Tampa Bay, FL | Safety Zone | 10/26/2004.
Tampa 04-137 | Tampa Bay, FL | Safety Zone | 11/8/2004.
Tampa 04-147 | Tampa Bay, FL | Safety Zone | 12/31/2004.

[FR Doc. 05-1761 Filed 1-31-05; 8:45 am]

BILLING CODE 4910-15-M